DEPARTMENT OF VETERANS AFFAIRS

[OMB Control No. 2900-0559]

Proposed Information Collection (State Cemetery Data Sheet and Cemetery Grant Document)

AGENCY: National Cemetery Administration, Department of Veterans Affairs.

ACTIVITY: OMB Review.

ACTION: Notice.

SUMMARY: In compliance with the Paperwork Reduction Act (PRA) of 1995 (44 U.S.C. 3501-3521), this notice announces that the National Cemetery Administration (NCA), Department of Veterans Affairs, will submit the collection of information abstracted below to the Office of Management and Budget (OMB) for review and comment. The PRA submission describes the nature of the information collection and its expected cost and burden; it includes the actual data collection instrument.

DATES: Comments must be submitted on or before October 27, 2016.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900-0559” in any correspondence.

FOR FURTHER INFORMATION CONTACT: Cynthia Harvey-Pryor, Enterprise Records Service (005R1B), Department of Veterans Affairs, 810 Vermont Avenue NW., Washington, DC 20420, (202) 461-5870 or email cynthia.harvey-pryor@va.gov. Please refer to “OMB Control No. 2900-0559.”

SUPPLEMENTARY INFORMATION:

Title: State Cemetery Data, VA Form 40-0241 and Cemetery Grant Documents, 40-0895 Series.

OMB Control Number: 2900-0559.

Type of Review: Revision of an approved collection.

Abstract: VA Form 40-0241 and Cemetery Grant Documents, 40-0895 Series, are required to provide data regarding the number of interments conducted at State Veterans cemeteries and support grant applications each year. This data is necessary for budget, oversight and compliance purposes associated with exiting and establishment of new State and Tribal government Veteran cemeteries.

Affected Public: Individuals or households.

Estimated Annual Burden: 10,050.

Estimated Average Burden per Respondent: 15 minutes.

Frequency of Response: One-time.

Estimated Number of Respondents: 286.

By direction of the Secretary.
Cynthia Harvey-Pryor,
Program Specialist, Office of Privacy and Records Management, Department of Veterans Affairs.

[FR Doc. 2016-23240 Filed 9-26-16; 8:45 am]

BILLING CODE 8320-01-P